SECURITIES AND EXCHANGE COMMISSION

[File No. 500-1]

In the Matter of Roanoke Technology, Corp.; Order of Suspension of Trading

December 6, 2007.

It appears to the Securities and Exchange Commission (“Commission”) that there is a lack of current and accurate information concerning the securities of Roanoke Technology, Corp. (“Roanoke”), because it is delinquent in its periodic filing obligations under Section 13(a) of the Securities Exchange Act of 1934 (“Exchange Act”) and Rules 13a-1 and 13a-13 thereunder, having not filed a periodic report after its Form 10-Q for the quarter ended July 31, 2005.

The Commission is of the opinion that the public interest and the protection of investors require a suspension of trading in the securities of the above listed company.

Therefore, it is ordered pursuant to Section 12(k) of the Exchange Act, that trading in the above listed company is suspended for the period from 9:30 a.m. EST on Thursday, December 6, 2007, through 11:59 p.m. EST on Wednesday, December 19, 2007.

By the Commission.
Nancy M. Morris,
Secretary.

[FR Doc. 07-6005 Filed 12-6-07; 10:04 am]

BILLING CODE 8011-01-P